DEPARTMENT OF ENERGY

Federal Energy Regulatory Commission

[Docket Nos. RP00-398-004 and RP01-34-006]

Overthrust Pipeline Company; Notice of Tariff Filing

November 7, 2003.

Take notice that on October 31, 2003, pursuant to 18 CFR 154.7 and 154.203, and in compliance with the Commission's Order on Rehearing and Compliance Filing issued March 4, 2003 (March 4 Order), in Docket Nos. RP00-398-001, 002, 003 and RP01-34-004, Overthrust Pipeline Company (Overthrust) tenders for filing, to be effective December 1, 2003, proposed tariff sheets to First Revised Volume No. 1-A of its FERC Gas Tariff that are listed as follows:

First Revised Volume No. 1-A

First Revised Sheet No. 78J

First Revised Sheet No. 78K

Overthrust states that in the March 4 Order, the Commission granted Overthrust an extension of time until December 1, 2003, to implement segmentation on a self-implementing basis through the nomination process and to allow segmenting shippers access to receipt and delivery points outside the flow path described by the service agreement's receipt and delivery points. The Commission's March 4 Order directed Overthrust to file revised tariff sheets 30 days prior to December 1, 2003, to implement those changes. This filing is tendered to comply with the Commission's March 4 Order.

Overthrust states that a copy of this filing has been served upon its customers and the Public Service Commission of Utah and the Public Service Commission of Wyoming.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “eFiling” link.

Magalie R. Salas,
Secretary.

[FR Doc. E3-00312 Filed 11-18-03; 8:45 am]

BILLING CODE 6717-01-P